DEPARTMENT OF COMMERCE

International Trade Administration

[A-201-843, A-570-990]

Prestressed Concrete Steel Rail Tie Wire From Mexico and the People's Republic of China: Antidumping Duty Orders

AGENCY: Enforcement and Compliance, International Trade Administration, Department of Commerce.

SUMMARY: Based on affirmative final determinations by the Department of Commerce (the Department) and the International Trade Commission (the ITC), the Department is issuing antidumping duty orders on prestressed concrete steel rail tie wire (PC tie wire) from Mexico and the People's Republic of China (PRC).

DATES: Effective Date: June 24, 2014.

FOR FURTHER INFORMATION CONTACT: Brian Smith (PRC) or Brandon Custard (Mexico), AD/CVD Operations, Office II, Enforcement and Compliance, International Trade Administration, U.S. Department of Commerce, 14th Street and Constitution Avenue NW., Washington, DC 20230; telephone: (202) 482-1766 or (202) 482-1823, respectively.

SUPPLEMENTARY INFORMATION:

Background

In accordance with sections 735(d) and 777(i)(1) of the Tariff Act of 1930, as amended (the Act) and 19 CFR 351.210(c), on May 5, 2014, the Department published its affirmative final determinations of sales at less-than-fair-value in the antidumping duty investigations of PC tie wire from Mexico and the PRC, respectively.¹ On June 17, 2014, the ITC notified the Department of its affirmative determinations that an industry in the United States is materially injured within the meaning of section 735(b)(1)(A)(i) of the Act by reason of less-than-fair-value imports of PC tie wire from Mexico and the PRC.²

¹ See Prestressed Concrete Steel Rail Tie Wire From Mexico: Final Determination of Sales at Less Than Fair Value, 79 FR 25571 (May 5, 2014); and Final Determination of Sales at Less Than Fair Value: Prestressed Concrete Steel Rail Tie Wire From the People's Republic of China, 79 FR 25572 (May 5, 2014).

² See Prestressed Concrete Steel Rail Tie Wire From Mexico and the People's Republic of China, Investigation No. 701-TA-1207 and 731-TA-1208 (Final), June 2014.

Scope of the Orders

The products covered by these orders are high carbon steel wire; stress relieved or low relaxation; indented or otherwise deformed; meeting at a minimum the physical, mechanical, and chemical requirements of the American Society of Testing Materials (ASTM) A881/A881M specification; regardless of shape, size or alloy element levels; suitable for use as prestressed tendons in concrete railroad ties (PC tie wire). High carbon steel is defined as steel that contains 0.6 percent or more of carbon by weight.

PC tie wire is classified under the Harmonized Tariff Schedule of the United States (HTSUS) subheading 7217.10.8045, but may also be classified under subheadings 7217.10.7000, 7217.10.8025, 7217.10.8030, 7217.10.8090, 7217.10.9000, 7229.90.1000, 7229.90.5016, 7229.90.5031, 7229.90.5051, 7229.90.9000, and 7312.10.3012. Although the HTSUS subheadings are provided for convenience and customs purposes, the written description of the scope of these orders is dispositive.

Antidumping Duty Orders

As stated above, on June 17, 2014, in accordance with section 735(d) of the Act, the ITC notified the Department of its final determinations in these investigations, in which it found material injury with respect to PC tie wire from Mexico and the PRC.³ Because the ITC determined that imports of PC tie wire from Mexico and the PRC are materially injuring a U.S. industry, all unliquidated entries of such merchandise from Mexico and the PRC, entered or withdrawn from warehouse, are subject to the assessment of antidumping duties.

³ Id.

Therefore, in accordance with section 736(a)(1) of the Act, the Department will direct U.S. Customs and Border Protection (CBP) to assess, upon further instruction by the Department, antidumping duties equal to the amounts listed below for all relevant entries of PC tie wire from Mexico and the PRC. These antidumping duties will be assessed on unliquidated entries of PC tie wire from Mexico and the PRC entered, or withdrawn from warehouse, for consumption on or after December 12, 2013, the date of publication of the preliminary determinations,⁴ but will not include entries occurring after the expiration of the provisional measures period and before publication of the ITC's final injury determination as further described below.

⁴ See Prestressed Concrete Steel Rail Tie Wire from Mexico: Preliminary Determination of Sales at Less Than Fair Value and Postponement of Final Determination, 78 FR 75544 (December 12, 2013); and Prestressed Concrete Steel Rail Tie Wire From the People's Republic of China: Preliminary Determination of Sales at Less Than Fair Value and Postponement of Final Determination, 78 FR 75545 (December 12, 2013).

Continuation of Suspension of Liquidation

In accordance with section 735(c)(1)(B) of the Act, we will instruct CBP to continue to suspend liquidation on all entries of PC tie wire from Mexico and the PRC. We will also instruct CBP to require cash deposits equal to the amounts as indicated below. These instructions suspending liquidation will remain in effect until further notice.

Accordingly, effective on the date of publication of the ITC's final affirmative injury determinations, CBP will require, at the same time as importers would normally deposit estimated duties on this subject merchandise, a cash deposit equal to the estimated weighted-average antidumping duty margins listed below.⁵

⁵ See section 736(a)(3) of the Act.

Provisional Measures

Section 733(d) of the Act states that instructions issued pursuant to an affirmative preliminary determination may not remain in effect for more than four months except where exporters representing a significant proportion of exports of the subject merchandise request the Department to extend that four-month period to no more than six months. At the request of exporters that account for a significant proportion of PC tie wire from Mexico and the PRC, we extended the four-month period to no more than six months.⁶ In the underlying investigations, the Department published the preliminary determinations on December 12, 2013. Therefore, the six-month period beginning on the date of publication of the preliminary determinations ended on June 10, 2014. Furthermore, section 737(b) of the Act states that definitive duties are to begin on the date of publication of the ITC's final injury determination.

⁶ See letters to the Department from Aceros Camesa, S.A. de C.V. (Mexico), dated November 19, 2013; and from Silvery Dragon Technology and Trading Co., Ltd. Tianjin (PRC), dated November 19, 2013.

Therefore, in accordance with section 733(d) of the Act and our practice, we will instruct CBP to terminate the suspension of liquidation and to liquidate, without regard to antidumping duties, unliquidated entries of PC tie wire from Mexico and the PRC entered, or withdrawn from warehouse, for consumption after June 10, 2014, the date the provisional measures expired, until and through the day preceding the date of publication of the ITC's final injury determinations in the Federal Register. Suspension of liquidation will resume on the date of publication of the ITC's final determination in the Federal Register.

The weighted-average dumping margins are as follows:

Country | Manufacturer/exporter | Weighted-average margin (percent)
Mexico | Aceros Camesa, S.A. de C.V. | 9.99
| All Others | 9.99
PRC | Silvery Dragon Group Technology and Trading Co. Ltd. Tianjin/Silvery Dragon Prestressed Materials Co., Ltd. Tianjin | 31.40
| PRC-wide Entity ⁷ | 35.31

This notice constitutes the antidumping duty orders with respect to PC tie wire from Mexico and the PRC pursuant to section 736(a) of the Act. Interested parties can find a list of antidumping duty orders currently in effect at http://ia.ita.doc.gov/stats/iastats1.html.

⁷ The PRC-wide entity includes Wuxi Jinyang Metal Products Co., Ltd. and Shanxi New-Mile International Trade Co., Ltd.

These orders are published in accordance with section 736(a) of the Act and section 351.211 of the Department's regulations.

Dated: June 18, 2014.
Ronald K. Lorentzen,
Acting Assistant Secretary for Enforcement and Compliance.

[FR Doc. 2014-14708 Filed 6-23-14; 8:45 am]

BILLING CODE 3510-DS-P